DEPARTMENT OF COMMERCE

National Oceanic and Atmospheric Administration

[RIN 0648-XA158]

Gulf of Mexico Fishery Management Council; Public Meetings

AGENCY: National Marine Fisheries Service (NMFS), National Oceanic and Atmospheric Administration (NOAA), Commerce.

ACTION: Notice of public meetings.

SUMMARY: The Gulf of Mexico Fishery Management Council will convene public meetings.

DATES: The meetings will be held February 7-10, 2011.

ADDRESSES: The meetings will be held at the Courtyard Marriott, 1600 E. Beach Blvd, Gulfport, MS 39501.

Council address: Gulf of Mexico Fishery Management Council, 2203 North Lois Avenue, Suite 1100, Tampa, FL 33607.

FOR FURTHER INFORMATION CONTACT: Dr. Stephen Bortone, Executive Director, Gulf of Mexico Fishery Management Council; telephone: (813) 348-1630.

SUPPLEMENTARY INFORMATION:

Council

Wednesday, February 9, 2011

3:30 p.m.—The Council meeting will begin with a review of the agenda and approval of the minutes.

3:45 p.m.-4 p.m.—The Council will receive a presentation titled “Fisheries 101”.

4 p.m.-6 p.m.—The Council will receive public testimony on exempted fishing permits (EFPs), if any and hold an open public comment period regarding any fishery issue of concern. People wishing to speak before the Council should complete a public comment card prior to the comment period.

Thursday, February 10, 2011

8:30 a.m.—5:15 p.m.—The Council will review and discuss reports from the committee meetings as follows: Sustainable Fisheries/Ecosystem; Reef Fish; Administrative Policy; Habitat Protection; SEDAR Selection; AP Selection; Data Collection; Budget/Personnel; Shrimp; Outreach & Education; Coral; Spiny Lobster/Stone Crab; and Coastal Migratory Pelagic (Mackerel).

5:15 p.m.-5:30 p.m.—Other Business items will follow.

Approximately 5:30 p.m., the Council will conclude its meeting.

Committees

Monday, February 7, 2011

8:30 a.m.-11:30 a.m. & 1 p.m.-2 p.m.—The Sustainable Fisheries/Ecosystem Committee will meet to receive an update on Ecosystem activities; receive a report from the Sector Separation workshop; review the Generic Annual Catch Limits/Accountability Measures Amendment; and review a Scoping Document for the Generic Earned Income Requirement/Crew Size Amendment.

2 p.m.-3:45 p.m.—The Administrative Policy Committee will review and potentially take final action on the Administrative Handbook; discuss initiating a strategic plan for the Council; and discuss SSC attendance issues and possible solutions.

3:45 p.m.-4:15 p.m.—The Habitat Protection Committee will meet to hear summaries and recommendations of the Habitat Protection Advisory Panels' meetings regarding the Essential Fish Habitat 5-year Review Report.

4:15 p.m.-4:45 p.m.—The Data Collection committee will meet to receive a summary and recommendations of the Vessel Monitoring Systems Advisory Panel.

4:45 p.m.-5 p.m.—SEDAR Selection Committee/Full Council. The SEDAR Selection Committee and full Council will receive a report on the SEDAR Steering Committee meeting.

5 p.m.-5:30 p.m.—Advisory Panel Selection Committee/Full Council will discuss the makeup of the new Ad Hoc Individual Fishing Quota Review Advisory Panel.

5:30 p.m.-5:45 p.m.—CLOSED SESSION—Advisory Panel Selection Committee/Full Council will appoint members to the new Ad Hoc Individual Fishing Quota Review Advisory Panel.

5:45 p.m.-6 p.m.—CLOSED SESSION—The Full Council will meet to hear a litigation briefing.

Recess

Tuesday, February 8, 2010

8:30 a.m.-9 a.m.—The Budget Committee will review the fourth quarter budget.

9 a.m.-10 a.m.—The Shrimp Management Committee will review the 2010 Texas Closure and consider the 2011 Texas closure; receive a summary of the Shrimp Advisory Panel meeting; receive a preliminary report on the 2010 shrimp effort; and hear a report of the Sawfish Workshop.

10 a.m.-12 noon & 1:30 p.m.-5:30 p.m.—The Reef Fish Management Committee will receive an update of the 2010 red snapper landings and status of the regulatory amendment; review the mutton snapper and goliath grouper benchmark assessments; review the re-run of the gag update assessment; review the goliath grouper assessment; discuss the impact of observed discard estimates on the red grouper stock assessment; review an options paper for a red snapper regulatory amendment to adjust the fall closing date and allow for weekend openings; receive a report on the Limited Access Privilege Program Advisory Panel meeting; discuss the individual fishing quota finance program; and review an individual fishing quota discussion paper.

Recess

Immediately Following Committee Recess—There will be an informal open public question and answer session on Gulf of Mexico Fishery Management Issues.

Wednesday February 9, 2011

8:30 a.m.-10 a.m.—The Spiny Lobster/Stone Crab Committee will review the actions of the South Atlantic Council regarding Joint Amendment 10 for Spiny Lobster and then approve the amendment for public hearings.

10 a.m.-12:30 p.m.—The Coastal Migratory Pelagics (Mackerel) Committee will review Draft Amendment 18 to the Coastal Migratory Pelagics and consider approval for public hearings.

2 p.m.-2:45 p.m.—The Outreach & Education Committee will hear a summary of the Outreach & Education Advisory Panel.

2:45 p.m.-3:30 p.m.—The Coral Management Committee will hear a presentation titled “Ecology & Conservation of Deep-sea Coral Habitats & Communities in the Gulf of Mexico.”

Although other non-emergency issues not on the agendas may come before the Council and Committees for discussion, in accordance with the Magnuson-Stevens Fishery Conservation and Management Act (Magnuson-Stevens Act), those issues may not be the subject of formal action during these meetings. Actions of the Council and Committees will be restricted to those issues specifically identified in the agendas and any issues arising after publication of this notice that require emergency action under Section 305(c) of the Magnuson-Stevens Act, provided the public has been notified of the Council's intent to take action to address the emergency. The established times for addressing items on the agenda may be adjusted as necessary to accommodate the timely completion of discussion relevant to the agenda items. In order to further allow for such adjustments and completion of all items on the agenda, the meeting may be extended from, or completed prior to the date/time established in this notice.

Special Accommodations

These meetings are physically accessible to people with disabilities. Requests for sign language interpretation or other auxiliary aids should be directed to Trish Kennedy at the Council (see ADDRESSES) at least 5 working days prior to the meeting.

Dated: January 14, 2011.
Tracey L. Thompson,
Acting Director, Office of Sustainable Fisheries, National Marine Fisheries Service.

[FR Doc. 2011-1108 Filed 1-19-11; 8:45 am]

BILLING CODE 3510-22-P